DEPARTMENT OF ENERGY

Federal Energy Regulatory Commission

[Project No.: 2801-027]

Littleville Power Company, Inc.; Notice of Application Tendered for Filing With the Commission, Soliciting Additional Study Requests, and Establishing Procedual Schedule for Licensing and Deadline for Submission of Final Amendments

November 21, 2007.

Take notice that the following hydroelectric application has been filed with the Commission and is available for public inspection.

a. Type of Application: Subsequent Minor License.

b. Project No.: 2801-027.

c. Date Filed: October 31, 2007.

d. Applicant: Littleville Power Company, Inc.

e. Name of Project: Glendale Hydroelectric Project.

f. Location: On the Housatonic River in the Town of Stockbridge, Berkshire County, Massachusetts. The project does not affect Federal lands.

g. Filed Pursuant to: Federal Power Act 16 U.S.C. 791 (a)-825(r).

h. Applicant Contact: Kevin M. Webb, Environmental Affairs Coordinator, Littleville Power Company, Inc., One Tech Drive, Suite 220, Andover, MA 01810, (978) 681-1900 ext. 809, kevin.webb@northamerica.enel.it.

i. FERC Contact: Kristen Murphy, (202) 502-6236 or kristen.murphy@ferc.gov.

j. Cooperating agencies: We are asking Federal, state, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 30, 2007.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “eFiling” link.

m. This application is not ready for environmental analysis at this time.

n. The existing Glendale Project consists of: (1) A 250-foot-long, 30-foot-high gravity dam with a 182-foot-long spillway; (2) a 23-acre reservoir; (3) two manually-operated 10 by 10-foot intake gates; (4) a 1,500-foot-long, 40-foot-wide intake canal; (5) a forebay structure and a 250-foot-long, 12-foot-diameter steel penstock; (6) a powerhouse with four turbines with a combined installed capacity of 1,140-kilowatts; (7) a 300-foot-long tailrace channel; (8) a step-up transformer and 13.8 kV transmission line; and (9) appurtenant facilities.

The applicant proposes to install a new 165-kW turbine that would pass a minimum flow into the bypassed channel. The applicant estimates that the total average annual generation, with the proposed additional turbine, would be 5,800 megawatthours. The applicant proposes to continue to operate the project in run-of-river mode with an increase in minimum flow in the bypass reach from 10 cfs to 90 cfs or inflow, whichever is less. The purpose of the project is to produce electrical power for sale to the Groton, MA Municipal Light Department.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

p. With this notice, we are initiating consultation with the Massachusetts State Historic Preservation Officer (SHPO), as required by § 106, National Historic Preservation Act, and the regulations of the Advisory Council on Historic Preservation, 36, CFR, at 800.4.

q. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA. Staff intents to give at least 30 days for entities to comment on the EA, and will take into consideration all comments received on the EA before final action is taken on the license application.

Issue Acceptance letter/ Additional:
Information Requests | January 2008.
Issue Scoping Document | February 2008.
Additional Information Response due | April 2008.
Notice of application is ready for environmental analysis | May 2008.
Comments, recommendations, prescriptions due | July 2008.
Notice of availability of the EA | January 2009.

Final amendments to the application must be filed with the Commission no later than 30 days from the issuance date of the notice of ready for environmental analysis.

Kimberly D. Bose,
Secretary.

[FR Doc. E7-23147 Filed 11-28-07; 8:45 am]

BILLING CODE 6717-01-P